DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW, Washington, DC.

Docket Number: 02-030. Applicant: Faulkes Telescope Corporation, Pacific Guardian Center, 737 Bishop Street, Suite 2600, Honolulu, HI 96813. Instrument: Robotically Controlled 2 meter Astronomical Telescope. Manufacturer: Telescope Technologies Limited, United Kingdom. Intended Use: The instrument is intended to be used for studying astronomical objects. The telescope and its charge coupled device instrument (which includes a wheel of colored filters) (CCD camera) will be used for taking images of astronomical objects that will allow the identity brightness, color, composition, and distance of astronomical objects to be determined. Observations of celestial objects will be selected by students in Hawaiian and United Kingdom schools as part of educational research programs being run to support the teaching of science in schools. Research programs will include:

1. Galaxy morphology (shape of galaxies)

2. Asteroid and comet searches

3. Gamma-ray bursts

4. Variable stars

5. Extra-solar planets (planets outside our own Solar System) These programs are intended to result in findings that can be published in refereed journals by the professional astronomers that will be mentoring the research. Therefore, the observations will need to be of research quality. Application accepted by Commissioner of Customs: July 11, 2002.

Docket Number: 02-037. Applicant: The University of Texas Health Center at Tyler, 11937 U.S. Hwy 271, Tyler, TX 75708-3154. Instrument: Electron Microscope, Model JEM-1230. Manufacturer: JEOL Ltd., Japan. Intended Use: The instrument is intended to be used to study ultrastructural cells—normal and pathological, dusts—inhaled and environmental, isolated proteins, bacteria, viruses, isolated RNA and DNA and other bio compounds to understand mechanisms in biosystems which have applicability to be used in intervening in human disease. Application accepted by Commissioner of Customs: August 15, 2002.

Docket Number: 02-039. Applicant: U.S. Department of Agriculture, ARS, PWA Office, 800 Buchanan Street, Albany, CA 94710. Instrument: Automated Robotic Colony Picking and Replicating System, Model QPixII. Manufacturer: Genetix Limited, United Kingdom. Intended Use: The instrument is intended to be used in research for a high-throughput screening strategy to identify E. coli. and yeast colonies with high recombinant enzyme activities and to quickly screen hundreds of thousands of colonies for clones that produce highly active starch-degrading enzymes, and to implement an automated process for that purpose. Application accepted by Commissioner of Customs: August 28, 2002.

Docket Number: 02-040. Applicant: Pennsylvania State University, 187 Materials Research Lab Building, University Park, PA 16802. Instrument: Optical Image Furnace and Accessories, Model SC1-MDH-20020. Manufacturer: NEC Machinery Corporation, Japan. Intended Use: The instrument is intended to be used for the growth of up to 10 mm diameter single crystals for the study of oxide ferroic and dielectric materials. The need for the capability to grow highly uniform and sufficient in size single crystals is stemmed from the necessity to separate and understand the mechanisms in the mixed valence solid solution and often refractory ferroic crystal systems. Application accepted by Commissioner of Customs: August 29, 2002.

Gerald A. Zerdy,
Program Manager, Statutory Import Programs Staff.

[FR Doc. 02-23496 Filed 9-13-02; 8:45 am]

BILLING CODE 3510-DS-P